DEPARTMENT OF THE INTERIOR

National Park Service

[NPS-WASO-NRSS-SSB-19329; PPWONRADE2, PMP00EI05.YP0000]

Information Collection Request Sent to the Office of Management and Budget (OMB) for Approval; Glen Canyon Survey

AGENCY: National Park Service, Interior.

ACTION: Notice; request for comments.

SUMMARY: We (National Park Service, NPS) have sent an Information Collection Request (ICR) to OMB for review and approval. We summarize the ICR below and describe the nature of the collection and the estimated burden and cost. We may not conduct or sponsor, and a person is not required to respond to, a collection of information unless it displays a currently valid OMB Control Number.

DATES: You must submit comments on or before October 21, 2015.

ADDRESSES: Send your comments and suggestions on this information collection to the Desk Officer for the Department of the Interior at OMB-OIRA at (202) 395-5806 (fax) or OIRA_Submission@omb.eop.gov (email) and identify your submission as 1024-0270. Please also send a copy of your comments to Bret Meldrum, Chief, Social Science Program, National Park Service, 1201 Oakridge Drive, Fort Collins, CO 80525-5596 (mail); Bret_Meldrum@nps.gov (email); or 970-267-7295 (phone) and Phadrea Ponds, Information Collection Coordinator, National Park Service, 1201 Oakridge Drive, Fort Collins, CO 80525 (mail); or pponds@nps.gov (email). Please reference Information Collection 1024-0270 in the subject line.

FOR FURTHER INFORMATION CONTACT: Dr. John Duffield, University of Montana, Department of Mathematical Sciences, Missoula, MT 5981; bioecon@montana.com (email); or: 406-721-2265. You may review the ICR online at http://www.reginfo.gov. Follow the instructions to review Department of the Interior collections under review by OMB.

SUPPLEMENTARY INFORMATION:

I. Abstract

On September 23, 2013 we published a 60-day Federal Register Notice (78 FR 58344) asking OMB to approve a pilot and final survey for a collection of information to study the economic value of National Park System resources along the Colorado River Corridor (which includes the Glen Canyon Dam and Grand Canyon National Park). On September 18, 2014, we received a Notice of Action (NOA) from the Office of Management and Budget approving the pilot version of the survey. The survey was pretested using a small sample to determine the respondents' reaction to key choice attributes (cost). The focus of the pretest was on the understandability and effectiveness of the conjoint questions in conveying information, and eliciting consistent, meaningful responses. The results of the pretest suggested that the survey and sampling methods provided the replication of the Welsh et al. (1995) study we expected. We were also satisfied that the pretest results could provide current information about the passive use value held by the American public for resources in Glen and Grand Canyon along the Colorado River.

The purpose of this ICR is to request the use of the final version of the survey instrument that the NPS will use to collect information from the general public about their understanding of National Park System resources along the Colorado River Corridor. In addition to providing information to the Secretary of the Interior, we anticipate that the data will also update the Welsh et al. (1995) study that was used in the 1996 Record of Decision which the Department of the Interior used to inform its decision on Glen Canyon Dam operations. We acknowledge that planning processes related to Glen Canyon Dam operations will rely on many sources and providers of information to evaluate economic impacts and affected resources. The primary purpose of this ICR is to obtain information contemplated by the National Park Service Organic Act of 1916, Mission and Policy as follows: Social science research in support of park planning and management is mandated in the NPS Management Policies 2006 (Section 8.11.1, “Social Science Studies”). The NPS pursues a policy that facilitates social science studies in support of the NPS mission to protect resources and enhance the enjoyment of present and future generations (National Park Service Act of 1916, 38 Stat 535, 16 U.S.C. 1, et seq.). NPS policy mandates that social science research will be used to provide an understanding of park visitors, the non-visiting public, gateway communities and regions, and human interactions with park resources. Such studies are needed to provide a scientific basis for park planning and development.

II. Data

OMB Control Number: 1024-0270.

Title: Glen Canyon Survey.

Type of Request: Revision of a currently approved collection.

Description of Respondents: Individual Households and general public.

Respondent's Obligation: Voluntary.

Frequency of Collection: One-time.

Estimated Annual Number of Responses: Total 1,573 (1,503 mail back surveys and 70 non-response surveys).

Estimated Completion Time per Response: 30 minutes per mail back survey and 5 minutes per non response survey.

Estimated Total Annual Burden Hours: 758 hours.

Estimated Annual Non-hour Burden Cost: There are no non-hour burden costs associated with this collection.

III. Comments

On September 23, 2013 (78 FR 58344) we published a 60-day Federal Register Notice asking OMB to approve a pilot and final survey for a collection of information to study the economic value of the resources of the Colorado River. The Notice announced that we were preparing an information collection to be submitted to OMB for approval. We received three requests to review the survey instruments. In response to the requests, we provided a summary of the study purpose and design and informed the requestors that the final versions of the survey would be available for review once the request was submitted to OMB.

On July 9, 2014 we published in the Federal Register (73 FR 38946) a Notice of our intent to request that OMB approve the pilot study for this information collection. In that Notice, we solicited comments for 30 days, ending on August 8, 2014. We received comments from the following organizations in response to that Notice: (1) Colorado River Energy Distributors Assoc. (CREDA); (2) Southern Nevada Water Authority; (3) Colorado River Board of California (CRB); (4) Arizona Department of Water Resources; (5) Western Area Power Administration; (6) Irrigation & Electrical Districts Association Of Arizona; and (7) American Public Power Association.

In summary, comments received from the organizations primarily concerned their overall objections towards the study and the overall utility of the collection. However, none of the letters addressed any specific changes or editorial corrections that could be made to the survey or the methodology. The NPS gave a presentation and addressed many questions regarding this survey and its methodology at the August 28, 2014 Glen Canyon Dam Adaptive Management Work Group (AMWG) meeting. The AMWG is a semi-annual meeting that is attended and represented by federal and state government agencies, including the National Park Service, and other stakeholders, tribal governments, and environmental organizations. Economists from the NPS also provided updates and addressed additional questions during two AMWG stakeholder conference calls (November 13, 2014 and December 16, 2014). A summary of the comments received from the following organizations are included below:

Colorado River Energy Distributors Assoc. (CREDA)

Comment: This collection is not necessary and will not have practical utility and does not clearly meet the requirements of 5 CFR 1320. Public will have the opportunity to comment on actual alternatives in public draft of the EIS. Survey alternatives do not accurately portray LTEMP alternatives therefore study is unnecessary and misleading. The purpose and intent of study needs to be clarified otherwise CREDA believes it is an unwarranted and unnecessary burden on respondents. The requested materials were not available until recently. Commitment to “include or summarize each comment in our request to OMB to approve this ICR” was not met. There are inaccurate and misleading references in the Authorizing Statue(s) information and in Supporting Document A.

NPS Response: In order to collect information from the public, we must be granted approval by the Office of Management and Budget to do such. In accordance with, and as required by the Paperwork Reduction Act of 1995, which is the purpose of 5 CFR 1320.1, we have submitted the proper paperwork to OMB to request approval for this information collection, and were granted the approval to collect the information for the pilot study associated with this collection. We are again following the proper guidance provided by OMB to request approval to collect the requested information. For the conjoint analysis methodology, respondents are provided with information about the resource outcomes, not the alternatives. This methodology values individually the management outcomes, such as the conditions of river beaches, native fish populations, and trout populations. The outcome levels selected for the survey are set statistically to maximize estimation efficiency and are intended to represent the range of potential impacts. It is then possible to estimate the values of LTEMP alternatives by setting individual outcome levels to match those of the respective alternatives and adding their indicated values together. The NPS presented and addressed these questions regarding the survey methodology at the August 28, 2014 AMWG meeting. The NPS also provided updates and addressed questions during the November 13, 2014 and December 16, 2014 AMWG stakeholder calls.

Southern Nevada Water Authority

Comment: The survey fails to adequately represent resource interactions, dam operations, and associated management actions. The survey overemphasizes recreational values and underemphasizes values of other stakeholders. Results will misrepresent the value of important resources and provide false valuation of contemplated actions. Request that AMWG be given opportunity to discuss the survey's details at their August 2014 meeting.

NPS Response: For the conjoint analysis methodology, respondents are provided with information about the resource outcomes, not the alternatives. This methodology values individually the management outcomes such as the conditions of river beaches, native fish populations, and trout populations. The outcome levels selected for the survey are set statistically to maximize estimation efficiency and are intended to represent the range of potential impacts. It is then possible to estimate the values of LTEMP alternatives by setting individual outcome levels to match those of the respective alternatives and adding their indicated values together. The NPS presented and addressed these questions regarding the survey methodology at the August 28, 2014 AMWG meeting. The NPS also provided updates and addressed questions during the November 13, 2014 and December 16, 2014 AMWG stakeholder calls.

Colorado River Board of California (CRB)

Comment: The FRN lacks specific information that would aid the public in more fully understanding the purpose and need of the study. Unclear how any data and/or information collected via the ICR survey instruments would be used by the NPS. The CRB suggests that the appropriate venues for those activities should be through the AMWG and with the input of the LTEMP EIS co-lead agencies (i.e., Reclamation and NPS) and cooperating agencies. It is not clear that any information collected by the NPS would contribute to the overall analysis of the six detailed and complex alternatives being evaluated through the LTEMP EIS process. The CRB suggests that both survey instruments significantly oversimplify and/or understate the current state of scientific knowledge and uncertainty. As presently structured, the survey is incomplete and potentially misleading. The CRB suggests that the most meaningful and appropriate venue in which to solicit public feedback is through the LTEMP EIS process.

NPS Response: The current 30-day FRN attempts to provide the clarity requested. The title has been changed to “Glen Canyon Passive Use Survey.” For the conjoint analysis methodology, respondents are provided with information about the resource outcomes, not the alternatives. This methodology values individually the management outcomes such as the conditions of river beaches, native fish populations, and trout populations. The outcome levels selected for the survey are set statistically to maximize estimation efficiency and are intended to represent the range of potential impacts. It is then possible to estimate the values of LTEMP alternatives by setting individual outcome levels to match those of the respective alternatives and adding their indicated values together. The NPS presented and addressed questions regarding the survey methodology at the August 28, 2014 AMWG meeting. The NPS also provided updates and addressed questions during the November 13, 2014 and December 16, 2014 AMWG stakeholder calls.

Arizona Department of Water Resources

Comment: Alternatives presented in the survey do not represent the range of alternatives in the EIS and would result in little or no practical utility. It would be more appropriate for the pubic to comment on actual alternatives in the public draft of the LTEMP EIS.

NPS Response: For the conjoint analysis methodology, respondents are provided with information about the resource outcomes, not the alternatives. This methodology values individually the management outcomes such as the conditions of river beaches, native fish populations, and trout populations. The outcome levels selected for the survey are set statistically to maximize estimation efficiency and are intended to represent the range of potential impacts. It is then possible to estimate the values of LTEMP alternatives by setting individual outcome levels to match those of the respective alternatives and adding their indicated values together. The NPS presented and addressed questions regarding the survey methodology at the August 28, 2014 AMWG meeting. The NPS also provided updates and addressed questions during the November 13, 2014 and December 16, 2014 AMWG stakeholder calls.

Western Area Power Administration

Comment: The FRN Notice is insufficient to discern utility of the information collection and therefore recommends that NPS clarify scope and purpose of information collection to allow parties to better understand the utility. The title of information collection is misleading. WAPA requested that NPS share the survey document and proposed that NPS integrate the collection of information through the survey, economic analysis, and any analysis that is being conducted to inform the Secretary on alternative management options.

NPS Response: The current 30-day FRN attempts to provide the clarity requested. The title has been changed to “Glen Canyon Passive Use Survey.” All documents associated with this submission are posted in Reginfo.gov as required by the Office of Management and Budget. The request for additional information in the 60-day Federal Register Notice provided three separate addresses—to which this letter was addressed and received. The Web site for Reginfo.gov is displayed, as required, in the 30-day Federal Register Notice of July 9, 2014 (79 FR 38946) for this request. A second 60-day Notice was not required for the final survey because the request was made in the 60-day FRN published on September 23, 2013 (78 FR 58344) and closed on November 23, 2013. This study is only one of many studies being conducted to inform the Secretary on alternative LTEMP management options.

Irrigation & Electrical Districts Association of Arizona

Comment: Echoed comments from others. Concerned about hidden and obscure documents not easily available for review by the public and interested parties so the ICR is fatally flawed as to be beyond salvage. Improper use of federal funds for which there is no credible use in the upcoming EIS analysis.

NPS Response: All documents associated with this submission are posted in Reginfo.gov as required by the Office of Management and Budget. The request for additional information in the 60-day Federal Register Notice provided three separate addresses—to which this letter was addressed and received. The Web site for Reginfo.gov is displayed, as required, in the 30-day Federal Register Notice of July 9, 2014 (79 FR 38946) for this request. A second 60-day Notice was not required for the final survey because the request was made in the 60-day FRN published on September 23, 2013 (78 FR 58344) and closed on November 23, 2013. The NPS presented and addressed questions regarding the survey methodology at the August 28, 2014 AMWG meeting. The NPS also provided updates and addressed questions during the November 13, 2014 and December 16, 2014 AMWG stakeholder calls.

American Public Power Association

Comment: The collection is not necessary for proper performance of NPS functions as required by 5 CFR 1320 and will not have practical utility. Concerned by methodologies used and requested further examination of all aspects of this ICR including survey methodologies.

NPS Response: In order to collect information from the public, we must be granted approval by the Office of Management and Budget to do such. In accordance with, and as required by the Paperwork Reduction Act of 1995, which is the purpose of 5 CFR 1320.1, we have submitted the proper paperwork to OMB to request approval for this information collection and were granted the approval to collect the information for the pilot study associated with this collection. We are again following the proper guidance provided by OMB to request approval to collect the requested information. The NPS presented and addressed questions regarding the survey methodology at the August 28, 2014 AMWG meeting and provided updates and addressed questions during the November 13, 2014 and December 16, 2014 AMWG stakeholder calls.

Each of the organizations above rejected the notion of the need for this collection. The NPS participated in a number of conference calls coordinated by these groups to answer the concerns voiced in these correspondences. The NPS stated the basis for this collection is predicated on the research needed to update the Welsh et. al. (1995) because this was the most recent study addressing this topic and therefore up-to-date information on economic value of the NPS resources along Colorado River is overdue and necessary for NPS management needs.

In addition to the pilot survey, we solicited feedback from three professionals with expertise in economic valuation, natural resource management and planning as well as survey design and methodology. The reviewers were asked to provide comments concerning the structure of the revised survey instrument and to provide feedback about the validity of the questions and the clarity of instructions. We also asked if the estimated time to complete the survey seemed adequate. We received several editorial and grammatical suggestions to provide clarity and to correct punctuation. Those edits were incorporated into the final versions of the surveys.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this Notice are a matter of public record. Before including your address, phone number, email address, or other personal identifying information in your comment, you should be aware that your entire comment, including your personal identifying information, may be made publicly available at any time. While you can ask us or OMB in your comment to withhold your personal identifying information from public review, we cannot guarantee that it will be done.

Dated: September 15, 2015.
Madonna L. Baucum,
Information Collection Clearance Officer, National Park Service.

[FR Doc. 2015-23673 Filed 9-18-15; 8:45 am]

BILLING CODE 4310-EH-P